DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the renewal of the generic information collection project: “Questionnaire and Data Collection Testing, Evaluation, and Research for the Agency for Healthcare Research and Quality.” In accordance with the Paperwork Reduction Act of 1995, Public Law 104-13 (44 U.S.C. 3506(c)(2)(A)), AHRQ invites the public to comment on this proposed information collection.

This proposed information collection was previously published in the Federal Register on August 15, 2007 and allowed 60 days for public comment. No comments were received. The purpose of this notice is to allow an additional 30 days for public comment.

DATES: Comments on this notice must be received by November 19, 2007.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Questionnaire and Data Collection Testing, Evaluation, and Research for the Agency for Healthcare Research and Quality.”

AHRQ plans to employ the latest techniques to improve its current data collections by developing new surveys, or information collection tools and methods, and by revising existing collections in anticipation of, or in response to, changes in the healthcare field, for a three-year period. The clearance request is limited to research on information collection tools and methods, and related reports and does not extend to the collection of data for public release or policy formation.

A generic clearance for this work allows AHRQ to draft and test information collection tools and methods more quickly and with greater lead time, thereby managing project time more efficiently and improving the quality of the methodological data the agency collects.

In some instances the ability to pretest/pilot-test information collection surveys, tools, and methods, in anticipation of work, or early in a project, may result in the decision not to proceed with particular survey activities. This would save both public and private resources and effectively eliminate or reduce respondent burden.

Many of the tool AHRQ develops are made available to users in the private sector. The health care environment changes rapidly and requires a quick response from the agency to provide appropriately refined tools. A generic clearance for this methodological work will facilitate the agency's timely development of information collection tools and methods suitable for use in changing conditions.

It is particularly important to refine AHRQ's tools because they have a widespread impact. These tools are frequently made available to help the private sector to improve health care quality by enabling the gathering of useful data for analysis. They are also used to provide information about health care quality to consumers and purchasers so that they can make marketplace choices to influence and improve health care quality. The current clearance will expire January 31, 2008. This is a request for a generic approval from OMB to test information collection instruments and methods over the next three years.

Methods of Collection

Participation in the testing of information collection tools and methods will be fully voluntary and non-participation will have no affect on eligibility for, or receipt of, future AHRQ health services research support or on future opportunities to participate in research or to obtain informative research results. Specific estimation procedures, when used, will be described when we notify OMB as to actual studies conducted under the clearance.

Estimated Annual Respondent Burden
Type of research activity | Number of respondents | Estimated time per respondent (min) | Total burden hours
Face-to-Face Interviews | 100 | 60 | 100
Field Tests (short) | 2,400 | 20 | 800
Field Tests (long) | 7,600 | 30 | 3,800
Lab Experiments | 200 | 90 | 300
Focus Groups | 100 | 60 | 100
Cognitive Interviews | 100 | 60 | 100
Totals | 10,500 | Not Applicable | 5,200

This information collection will not impose a cost burden on the respondents beyond that associated with their time to provide the required data. There will be no additional costs for capital equipment, software, computer services, etc.

Estimated Annual Costs to the Federal Government

Expenses (equipment, overhead, printing, and support staff) will be incurred by AHRQ components as part of their normal operating budgets. No additional cost to the Federal Government is anticipated. Any deviation from these limits will be noted in reports made to OMB with respect to a particular study or studies conducted under the clearance.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 15, 2007.
Carolyn M. Clancy,
Director.

[FR Doc. 07-5156 Filed 10-18-07; 8:45 am]

BILLING CODE 4160-90-M